DEPARTMENT OF JUSTICE

Drug Enforcement Administration

Manufacturer of Controlled Substances; Notice of Registration

By Notice dated October 25, 2002, and published in the Federal Register on November 7, 2002, (67 FR 67870), Aldrich Chemical Company Inc., dba Isotec, 3858 Benner Road, Miamisburg, Ohio 45342-4304, made application to the Drug Enforcement Administration for registration as a bulk manufacturer of the basic classes of controlled substances listed below:

Drug | Schedule
Cathinone (1235) | I
Methcathinone (1237) | I
N-Ethylamphetamine (1475) | I
N,N-Dimethylamphetamine (1480) | I
Aminorex (1585) | I
Gamma hydroxybutyric acid (2010) | I
Methaqualone (2565) | I
Lysergic acid dethylamide (7315 | I
Tetrahydrocannabinols (7370) | I
Mescaline (7381) | I
2,5-Dimethoxyamophetamine (7396) | I
3,4-Methylenedioxyamphetamine (7400) | I
3,4-Methylenedioxy-N-ethylamphetamine (7404) | I
3,4-Methylenedioxy-methamphetamine (7405) | I
4-Methoxyamphetamine (7411) | I
Psilocybin (7437) | I
Psilocyn (7438) | I
N-Ethyl-1-phenylcyclohexylamine (7455) | I
Dihydromorphine (9145) | I
Normorphine (9313) | I
Acetylmethadol (9601) | I
Alphacetylmethadol Except Levo-Alphacetylmethadol (9603) | I
Normethadone (9635) | I
3-Methylfentanyl (9813) | I
Amphetamine (1100) | II
Methamphetamine (1105) | II
Methylphenidate (1724) | II
Amobarbital (2125) | II
Pentobartital (2270) | II
Secobarbital (2315) | II
1-Phenylcyclohexylamine (7460) | II
Phencyclidine (7471) | II
Phenylacetone (8501) | II
1-Piperidinocyclohexane-carbonitrile (8603) | II
Codeine (9050) | II
Dihydrocodeine (9120) | II
Oxycodone (9143) | II
Hydromorphone (9150) | II
Benzoylecogonine (9180) | II
Ethylmorphine (9190) | II
Hydrocodone (9193) | II
Isomethadone (9226) | II
Meperidine (9230) | II
Meperidine intermediate-A (9232) | II
Merperidine intermediate-B (9233) | II
Methadone intermediate (9254) | II
Dextropropoxyphene, bulk, (non-dosageforms) (9273) | II
Levo-alphacetylmethadol (9648) | II
Oxymorphone (9652) | II
Fentanyl (9801) | II

The firm plans to manufacture small quantities of the listed controlled substances to produce standards for analytical laboratories.

No comments or objections have been received. DEA has considered the factors in Title 21, United States Code, Section 823(a) and determined that the registration of Aldrich Chemical Company Inc., dba Isotec, to manufacture the listed controlled substances is consistent with the public interest at this time. DEA has investigated Aldrich Chemical Company Inc., dba Isotec, to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed is granted.

Dated: July 22, 2003.
Laura M. Nagel,
Deputy Assistant Administrator, Office of Diversion Control, Drug Enforcement Administration.

[FR Doc. 03-19813 Filed 8-4-03; 8:45 am]

BILLING CODE 4410-09-M